DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, March 29, 2019, 08:00 a.m. to March 29, 2019, 05:00 p.m., National Institutes of Health, One Democracy Plaza, 6701 Democracy Boulevard, Bethesda, MD 20892 which was published in the Federal Register on February 07, 2019, 84 FR 2551.

This meeting is being amended to change the date of the meeting from March 29, 2019 to April 1, 2019. This meeting is closed to the public. The meeting is closed to the public.

Dated: March 12, 2019.
Sylvia L. Neal,
Program Analyst, Office of Federal Advisory Committee Policy.

[FR Doc. 2019-04853 Filed 3-14-19; 8:45 am]

BILLING CODE 4140-01-P